DEPARTMENT OF THE INTERIOR

National Park Service

National Register of Historic Places; Notification of Pending Nominations

Nominations for the following properties being considered for listing in the National Register were received by the National Park Service before July 22, 2000. Pursuant to section 60.13 of 36 CFR Part 60 written comments concerning the significance of these properties under the National Register criteria for evaluation may be forwarded to the National Register, National Park Service, 1849 C St. NW, NC400, Washington, DC 20240. Written comments should be submitted by August 15, 2000.

Patrick W. Andrus,
Acting, Keeper of the National Register.

CALIFORNIA

Sacramento County

Brewster Building, 201 Fourth St., Galt, 00000981

FLORIDA

Orange County

Palm Cottage Gardens, 2267 Hempel Ave., Gotha, 00000982

IOWA

Black Hawk County

Walnut Street Baptist Church, 415 Walnut St., Waterloo, 00000983

Webster County

Oakland Cemetery, 1600 N. 15th St., Fort Dodge, 00000984

Worth County

First Methodist Episcopal Church, 401 2nd. St., Kensett, 00000985

MASSACHUSETTS

Berkshire County

Methodist Episcopal Society of Tyringham, 128-130 Main Rd., Tyringham, 00000986

NEW YORK

Allegany County

Rail and Titsworth Canal Warehouse, Hughes Rd., Belfast, 00000987

NORTH CAROLINA

Beaufort County

Zion Episcopal Church, US 264, 0.2 mi. E of jct. with NC 1601, Washington, 00000988

Davie County

Hodges Business College, NC 1819, 0.15 mi. SE of jct. with NC 801, Mocksville, 00000990

Durham County

Clark and Sorrell Garage, 323 Foster St., Durham, 00000991

Henderson County

Druid Hills Historic District, (Hendersonville MPS) Roughly bounded by Meadowbrook Terrace, US 25N, Ashwood Rd., and Ridgewood Ave., Hendersonville, 00000989

NORTH DAKOTA

Burleigh County

Brandt, Dr. Albert M. and Evelyn M., House, 323 E. Ave. B, Bismarck, 00000992

SOUTH DAKOTA

Clay County

Lincoln School #12, (Schools in South Dakota MPS), 45352 Timber Rd., Meckling, 00000995

Edmunds County

Edmunds County Courthouse, (Federal Relief Construction in South Dakota MPS), Second Ave., bet. 2nd and 3rd Sts., Ipswich, 00000997

Gregory County

Herrick Public School, (Schools in South Dakota MPS) 450 Eighth St., Herrick, 00001000

Lincoln County

Taylor, J.W., House, 308 N. Broadway St., Canton, 00001001

Meade County

Sturgis High School, (Schools in South Dakota MPS) 1425 Cedar St., Sturgis, 00000998

Moody County

First Scandinavian Baptist Church, 2.5 mi. S of Trent, Trent, 00000999

Pennington County

Casper Supply Company of SD, 415 Main St., Rapid City, 00000996

Roberts County

Hart School #3, (Schools in South Dakota MPS), Rte. 1, Sisseton, 00000994

TENNESSEE

Davidson County

Cheekwood, 1200 Forest Park Dr., Nashville, 00000993

[FR Doc. 00-19271 Filed 7-28-00; 8:45 am]

BILLING CODE 4310-70-P